DEPARTMENT OF COMMERCE

Foreign-Trade Zones Board

[B-14-2016]

Foreign-Trade Zone (FTZ) 7—Mayaguez, Puerto Rico, Notification of Proposed Production Activity, Lilly Del Caribe, Inc., Subzone 7K (Pharmaceutical Products), Carolina and Guayama, Puerto Rico

The Puerto Rico Industrial Development Company, grantee of FTZ 7, submitted a notification of proposed production activity to the FTZ Board on behalf of Lilly Del Caribe, Inc. (Lilly), located within Subzone 7K in Carolina and Guayama, Puerto Rico. The notification conforming to the requirements of the regulations of the FTZ Board (15 CFR 400.22) was received on March 08, 2016.

Lilly already has FTZ authority for the production of finished pharmaceuticals and their intermediates, including the active ingredients humalog and duloxetine. The current request would add finished products and foreign-status materials/components to the scope of authority. Pursuant to 15 CFR 400.14(b), additional FTZ activity would be limited to the specific foreign-status materials/components and specific finished products described in the submitted notification (as described below) and subsequently authorized by the FTZ Board.

Production under FTZ procedures could exempt Lilly from customs duty payments on the foreign-status components used in export production. On its domestic sales, Lilly would be able to choose the duty rate during customs entry procedures that applies to finished abemaciclib capsules (breast cancer treatment) and barcitinib tablets (rheumatoid arthritis treatment) (duty free) for the foreign-status inputs noted below and in the existing scope of authority. Customs duties also could possibly be deferred or reduced on foreign-status production equipment.

The materials/components sourced from abroad include abemaciclib and barcitinib active ingredients (duty rate, 6.5%).

Public comment is invited from interested parties. Submissions shall be addressed to the FTZ Board's Executive Secretary at the address below. The closing period for their receipt is May 3, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: March 17, 2016.
Andrew McGilvray,
Executive Secretary.

[FR Doc. 2016-06584 Filed 3-23-16; 8:45 am]

BILLING CODE 3510-DS-P